DEPARTMENT OF HEALTH AND HUMAN SERVICES

Health Resources and Services Administration

Rural Assistance Center

AGENCY: Health Resources and Services Administration (HRSA), HHS.

ACTION: Notice of availability of funds.

SUMMARY: The Health Resources and Services Administration announces up to $600,000 in FY 2002 funds is available to fund a single competitive cooperative agreement to support the development of a Rural Assistance Center (RAC) demonstration project. The RAC will assist rural communities and individual rural citizens in building and sustaining high-quality rural health care delivery systems.

Eligibility is open to any public or private entity. Faith-based organizations are eligible to apply for these funds. Awards will be made under the program authority of Section 301 of the Public Health Service Act. Funds for this award were appropriated under Public Law 107-116. The award will be for a period of three years. Additional funding of up to $600,000 annually in the second or third years is contingent on the availability of funds and grantee performance.

DATES: Applicants for this program are requested to notify the Office of Rural Health Policy by September 1, 2002. Notification of intent to apply can be made in one of three ways: telephone: 301-443-0835; e-mail shirsch@hrsa.gov; mail, Office of Rural Health Policy, Room 9A-55, 5600 Fishers Lane, Rockville, MD 20857. The deadline for receipt of grant applications is September 16, 2002. Applications will be considered on time if received on or before this date.

ADDRESSES: To receive a complete application kit, applicants may telephone the HRSA Grants Application Center at 1-877-477-2123 (1-877-HRSA-123) beginning August 16, 2002, or register on-line at: http://www.hrsa.gov/, or by accessing http://www.hrsa.gov/g_order3.htm directly. This program uses the standard Form PHS 5161-1 (rev. 7/00) for applications (approved under OMB No. 0920-0428). Applicants must use the Catalog of Federal Domestic Assistance (CFDA) number 93.223 when requesting application materials. The CFDA is a Government wide compendium of enumerated Federal programs, projects, services, and activities that provide assistance. An original and paper copies of applications should be mailed to: HRSA Grants Application Center, 901 Russell Avenue, Suite 450, Gaithersburg MD, telephone: 1-877-HRSA-123 (477-2123), E-mail: hrsagac@hrsa.gov.

This application guidance and the required form for the Rural Assistance Center Program may also be downloaded in either Microsoft Word or Adobe Acrobat format (.pdf) from the ORHP Homepage at http://www.ruralhealth.hrsa.gov. Please contact Steve Hirsch at 301-443-0835 or shirsch@hrsa.gov if you need technical assistance in accessing the ORHP Home Page via the Internet.

SUPPLEMENTARY INFORMATION:

Program Background and Objectives

For the 65 million people living in rural America, the U.S. Department of Health and Human Services' mission to protect health and to provide assistance for those in need is especially relevant. Health care and social service programs in rural communities provide needed support of communities' well-being and represent a significant segment of the local economies. These programs, however, frequently lack adequate funds, personnel and support network.

For more than a decade, the Office of Rural Health Policy has supported activities that assist states, localities and rural citizens as they work to build and sustain high-quality rural health care delivery systems. One component of that support has been the Rural Information Center Health Service (RICHS). The intent of the RAC is to demonstrate that this activity can be expanded and enhanced to better serve rural communities by identifying private and public resources, collecting and sharing information about models that work, and serving as a technical resource for a wide range of health and social service issues.

In July of 2001, Secretary of Health and Human Services Tommy G. Thompson created a rural task force to assess how the Department serves rural communities. Among the key findings of this year-long initiative is that DHHS operates more than 220 discrete programs that affect rural communities. As part of the rural initiative, the Department's Rural Task Force also collected more than 450 public comments on a variety of issues affecting rural communities. One of the key themes that emerged from these public comments is the need to reach out to rural communities and help them identify how best to access the broad range of health and social services programs that are available to rural communities.

The Rural Assistance Center will serve as a focal point of information about the broad range of public and private opportunities that are available to support rural communities. The RAC will help rural communities navigate these opportunities, identify successful state and community models and provide links to existing private and public resources that support rural health care and social service delivery. This will, in turn, help rural communities build and enhance their rural services and strengthen their communities.

Authorization: Section 301 of the Public Health Service Act, 42 U.S.C. 241.

Purpose

The purpose of this cooperative agreement is to assist rural communities in developing and sustaining high-quality rural health care and social service delivery systems through an integrated assistance center. Specifically, through this cooperative agreement the RAC will:

(1) Serve as a support to rural communities and rural citizens to identify available programs for improving the ability of rural communities to provide high-quality health care and social services.

(2) Identify and synthesize information about the availability of existing private and public resources for enhancing rural health care and social service delivery.

(3) Identify and disseminate information about models that work in rural communities that have been able to sustain, enhance and improve their local health care and social service delivery systems.

(4) Promote collaboration among DHHS programs that serve rural communities to increase effectiveness and reduce duplication of effort.

Eligibility

Under section 301 of the Public Health Service Act, any public or private entity is eligible to apply. Under the President's initiative, community-based and faith-based organizations that are otherwise eligible and believe they can contribute to HRSA's program objectives are encouraged to consider this initiative.

Funding Levels/Project Periods

The administrative and funding instrument to be used for the RAC will be a cooperative agreement, in which substantial ORHP policy expertise and/or programmatic involvement with the awardee is anticipated during the performance of the project. There is no requirement for matching funds with this program. Under the terms of this cooperative agreement, in addition to the required monitoring and technical assistance, Federal responsibilities will include:

(1) Participation in meetings conducted during the period of the cooperative agreement.

(2) Ongoing review of activities and procedures to be established and implemented.

(3) Review of project information prior to dissemination.

(4) Review of information on project activities.

(5) Assistance with the establishment of contacts with Federal and State agencies, grant projects and other contacts that may be relevant to the project's mission and referrals to these agencies.

One project will be approved for three years. Up to $600,000 in fiscal year 2002 funds will be used to fund the first year. Additional funding of up to $600,000 annually in years two and three will be contingent on the availability of funds and grantee performance.

Review Criteria

Applications that are complete and responsive to the guidance will be evaluated by an objective review panel specifically convened for this solicitation and in accordance with HRSA grants management policies and procedures.

Applications will be reviewed using the following criteria:

1. Knowledge and Understanding of the Issues relating to Rural Health and Rural Social Services (Weight: 20%) and the Challenges Facing Providers and Beneficiaries in Rural Areas

• The degree of understanding of the evolution of rural health and social services and the historical challenges facing rural communities in terms of resources and demographics (including populations experiencing cultural and linguistic barriers to care).

• The degree of thoroughness in describing how the RAC will address information gaps for rural communities.

• The extent of applicant knowledge of rural health and social service issues.

• The extent of applicant knowledge of the individuals and organizations involved in the rural health and social services.

2. Soundness and Adequacy of Project Plan (Weight: 30%)

• The extent to which the project objectives address the program purpose and are measurable, time-framed, and appropriate in relation to both the program requirements and identified needs.

• The degree to which the program areas outlined in the grant guidance have been addressed, prioritized and justified.

• The quality and feasibility of the project plan or methodology and its relation to the project's goals and objectives.

• The extent to which the proposed approach identifies the resources that will be used to implement the strategies.

• The degree to which the approaches are technically sound and appropriate to the project goals and objectives.

3. Soundness of Implementation Plan (Weight: 10%)

• The soundness of the plan for creating and implementing the RAC.

• The extent to which the applicant describes how the project staff will determine the degree to which proposed activities are being successfully conducted and completed, based on the objectives outlined.

4. Applicant's Capability and Capacity (Weight: 30%)

• The extent to which the applicant has demonstrated expertise and its capability to oversee and successfully carry out the project.

• Evidence that a sufficient number of project personnel and resources are proposed. Biographical sketches/curricula vitae document education, skills and experience that are relevant and necessary for the proposed project.

5. Appropriateness of Budget (Weight: 10%)

• The extent to which the proposed budget is realistic, adequately justified, and consistent with the proposed project plan.

• The extent to which the costs of administration and monitoring/evaluation are reasonable and proportionate to the costs of service provision.

• The degree to which the costs of the proposed project are economical in relation to the proposed service utilization.

Additional criteria may be used in the review of applications for this competition. Any such criteria will be identified in the program guidance included in the application kit. Applicants should pay strict attention to addressing these criteria, in addition to those referenced above.

This program is not subject to the provision of Executive Order 12372, Intergovernmental Review of Federal Programs (as implemented through 45 CFR part 100). This program is also not subject to the Public Health Systems Reporting Requirements.

Paperwork Reduction Act

OMB approval for any data collection in connection with this cooperative agreement will be sought, as required under the Paperwork Reduction Act of 1995.

Dated: August 15, 2002.
Elizabeth M. Duke,
Administrator.

[FR Doc. 02-21340 Filed 8-20-02; 8:45 am]

BILLING CODE 4165-15-P